DEPARTMENT OF ENERGY

Federal Energy Regulatory Commission

Notice

December 8, 2004.

The following notice of meeting is published pursuant to section 3(a) of the government in the Sunshine Act (Pub. L. 94-409), 5 U.S.C. 552b:

AGENCY HOLDING MEETING: Federal Energy Regulatory Commission.

DATE AND TIME: December 15, 2004.

PLACE: Room 2C, 888 First Street NE., Washington, DC 20426.

STATUS: Open.

MATTERS TO BE CONSIDERED: Agenda. *Note—Items listed on the agenda may be deleted without further notice.

CONTACT PERSON FOR MORE INFORMATION: Magalie R. Salas, Secretary, Telephone (202) 502-8400. For a recorded listing items stricken from or added to the meeting, call (202) 502-8627.

This is a list of matters to be considered by the Commission. It does not include a listing of all papers relevant to the items on the agenda; however, all public documents may be examined in the Public Reference Room.

876th—Meeting, Regular Meeting

Administrative Agenda

A-1.

Docket # AD02-1-000, Agency Administrative Matters

A-2.

Docket # AD02-7-000, Customer Matters, Reliability, Security and Market Operations

A-3.

Docket # AD05-1-000, Presentation on Market Design Principles For Reactive Power

Markets, Tariffs, and Rates—Electric

E-1.

ER96-2495-002, AEP Power Marketing Inc.

ER97-1238-015, CSW Power Marketing, Inc.

ER97-4143-008, AEP Service Corporation

ER98-2075-014, CSW Energy Services, Inc.

ER98-542-010, Central and South West Services, Inc.

ER96-2495-021, AEP Power Marketing, Inc.

ER96-2495-022, AEP Power Marketing, Inc.

ER96-2495-023, AEP Power Marketing, Inc.

ER97-4143-009, AEP Service Corporation

ER97-4143-010, AEP Service Corporation

ER97-4143-011, AEP Service Corporation

ER98-2075-015, CSW Energy Services, Inc.

ER98-2075-016, CSW Energy Services, Inc.

ER98-2075-017, CSW Energy Services, Inc.

ER98-542-011, Central and South West Services, Inc.

ER98-542-012, Central and South West Services, Inc.

ER98-542-013, Central and South West Services, Inc.

ER97-1238-016, CSW Power Marketing, Inc.

ER97-1238-017, CSW Power Marketing, Inc.

ER97-1238-018, CSW Power Marketing, Inc.

EL04-131-000, Central and South West Services, Inc.

E-2.

ER91-569-023, Entergy Services, Inc.

EL04-123-000, Entergy Services, Inc.

ER91-569-024, Entergy Services, Inc.

E-3.

ER99-3677-003, CMS Generation Michigan Power L.L.C.

ER99-3677-004, CMS Generation Michigan Power L.L.C.

ER98-4421-005, Consumers Energy Company

ER98-4421-004, Consumers Energy Company

ER98-4421-003, Consumers Energy Company

ER98-4421-002, Consumers Energy Company

ER96-2350-025, CMS Energy Resource Management Company

ER96-2350-024, CMS Energy Resource Management Company

ER96-2350-023, CMS Energy Resource Management Company

ER99-791-003, Grayling Generating Station Limited Partnership

ER99-791-002, Grayling Generating Station Limited Partnership

ER99-806-002, Genesee Power Station Limited Partnership

ER99-806-001, Genesee Power Station Limited Partnership

ER01-570-005, Dearborn Industrial Generation, L.L.C.

ER01-570-004, Dearborn Industrial Generation, L.L.C.

ER01-570-003, Dearborn Industrial Generation, L.L.C.

E-4.

ER98-4512-003 Consolidated Water Power Company

ER98-4512-004 Consolidated Water Power Company

ER98-4512-002 Consolidated Water Power Company

E-5.

ER96-2602-004, Dayton Power and Light Company

ER96-2602-006, Dayton Power and Light Company

ER96-2602-007, Dayton Power and Light Company

ER96-2601-018, DPL Energy, LLC

ER96-2601-017, DPL Energy, LLC

ER96-2601-015, DPL Energy, LLC

E-6.

ER96-110-010, Duke Power, a Division of Duke Energy Corporation

EL05-4-000, Bridgeport Energy, LLC;

ER96-110-011, Duke Power, Division of Duke Energy Corporation

ER96-110-012, Duke Power, Division of Duke Energy Corporation

ER03-956-002, Duke Energy Marketing America, LLC

ER03-956-003, Duke Energy Marketing America, LLC

ER98-2680-007, Duke Energy Moss Landing, LLC

ER98-2680-008, Duke Energy Moss Landing, LLC

ER98-2681-007, Duke Energy Morro Bay, LLC

ER98-2681-008, Duke Energy Morro Bay, LLC

ER98-2682-007, Duke Energy Oakland, LLC

ER98-2682-008, Duke Energy Oakland, LLC

ER99-1785-006, Duke Energy South Bay, LLC

ER99-1785-007, Duke Energy South Bay, LLC

ER98-2783-006, Bridgeport Energy, LLC

E-7.

ER99-2416-002, El Paso Electric Company

ER99-2416-001, El Paso Electric Company

ER99-2416-003, El Paso Electric Company

ER99-2416-004, El Paso Electric Company

E-8.

ER99-1005-001, Kansas City Power and Light Company

EL05-3-000, Kansas City Power and Light Company

ER99-1005-003, Kansas City Power and Light Company

ER02-725-004, Great Plains Power Incorporated

ER99-1005-002, Kansas City Power and Light Company

ER02-725-003, Great Plains Power Incorporated

E-9.

ER00-2268-005, Pinnacle West Capital Corporation

ER00-2268-006, Pinnacle West Capital Corporation

ER00-2268-007, Pinnacle West Capital Corporation

ER99-4124-003, Arizona Public Service Company

ER99-4124-004, Arizona Public Service Company

ER99-4124-005, Arizona Public Service Company

EL05-10-000, Pinnacle West Capital Corporation

EL05-11-000, Arizona Public Service Company

ER00-3312-004, Pinnacle West Energy Corporation

ER00-3312-005, Pinnacle West Energy Corporation

ER00-3312-006, Pinnacle West Energy Corporation

EL05-12-000, Pinnacle West Energy Corporation

ER99-4122-006, APS Energy Services Company, Inc.

ER99-4122-007, APS Energy Services Company, Inc.

ER99-4122-008, APS Energy Services Company, Inc.

EL05-13-000, APS Energy Services Company, Inc.

E-10.

ER99-845-004, Puget Sound Energy, Inc.

ER99-845-005, Puget Sound Energy, Inc.

ER99-845-006, Puget Sound Energy, Inc.

ER99-845-007, Puget Sound Energy, Inc.

EL05-37-000, Puget Sound Energy, Inc.

E-11.

ER96-1551-007, Public Service Company of New Mexico

ER96-1551-008, Public Service Company of New Mexico

ER96-1551-009, Public Service Company of New Mexico

ER01-615-004, Public Service Company of New Mexico;

ER01-615-005, Public Service Company of New Mexico

ER01-615-006, Public Service Company of New Mexico

EL05-2-000, Public Service Company of New Mexico

E-12.

ER97-4166-015, Southern Company Energy Marketing, Inc.

ER97-4166-016, Southern Company Energy Marketing, Inc.

ER96-780-005, Southern Company Services, Inc.

ER96-780-006, Southern Company Services, Inc.

EL04-124-000, Southern Company Services, Inc.

E-13.

ID-3998-000, Douglas R. Oberhelman

E-14.

EL02-113-007, El Paso Electric Company, Enron Power Marketing, Inc., and Enron Capital and Trade Resources Corporation

EL-180-007, Enron Power Marketing, Inc., and Enron Energy Services, Inc.

EL03-154-004, Enron Power Marekting, Inc. and Enron Energy Services, Inc.

E-15.

Omitted

E-16.

Omitted

E-17.

Omitted

E-18.

Docket #ER04-691-007, Midwest Independent Transmission System Operator, Inc.

ER04-691—004, Midwest Independent Transmission System Operator, Inc.

EL04-104-006, Public Utilies with Granndfathered Agreements in Midwest ISO Region

E-19.

TX04-2-001, Nevada Power Company

E-20.

PL03-1-000, Pricing Policy for Efficient Operation and Expansion of Transmission Grid

E-21.

EL04-93-000, R.W. Beck Plant Management, Ltd.

E-22.

RM02-1-005, Standardization of Generator Interconnection Agreements and Procedures

E-23.

EL05-24-000, Survey on Operator Training Practicves

E-24.

ER04-1255-000, ISO New England, Inc.

E-25.

ER05-68-000, Pastoria Energy Center, LLC

E-26.

Omitted

E-27.

Omitted

E-28.

ER04-1144-000, New York Indepedent System Operator Inc.

ER04-1144-001 New York Independent System Operator Inc.

E-29.

Omitted

E-30.

ER05-164-000, Wisconsin Public Service Corporation

E-31.

Omitted

E-32.

Omitted

E-33.

ER05-82-000, Pacific Gas and Electric Company

ER03-409-000, Pacific Gas and Electric Company

EL05-35-000, Pacific Gas and Electric Company

ER04-666-000, Pacific Gas and Electric Company

E-34.

ER05-69-000, Boston Edison Company

E-35.

ER04-1137-000, MeadWestvaco Energy Services, LLC

ER04-1137-001, MeadWestvaco Energy Services, LLC

ER04-1137-002, MeadWestvaco Energy Services, LLC

E-36.

Omitted

E-37.

Omitted

E-38.

Omitted

E-39.

ER98-2270-003, PEI Power Corporation

ER98-2270-004, PEI Power Corporation

ER98-2270-005, PEI Power Corporation

E-40.

ER99-230-002, Alliant Energy Corporate Services, Inc.

ER99-230-004, Alliant Energy Corporate Services, Inc.

EL05-5-000, Alliant Energy Corporation Services, Inc.

ER99-230-005, Alliant Energy Corporate Services, Inc.

ER99-230-006, Alliant Energy Corporate Services, Inc.

ER03-762-005, Alliant Energy Corporate Services, Inc.

ER03-762-001, Alliant Energy Corporate Services, Inc.

ER03-762-000, Alliant Energy Corporate Services, Inc.

E-41.

EL01-51-003, Detroit Edison Company

E-42.

Omitted

E-43.

EL01-51-005, Detroit Edison Company

ER01-1649-005, Detroit Edison Company

E-44.

RT01-100-000, Regional Transmission Organizations

RT01-75-005, Entergy Services, Inc.

RT-100-001, Regional Transmission Organizations

RT01-34-004, Southwest Power Pool, Inc.

RT01-74-005, GridSouth Transco, LLC, Carolina Power and Light Company, Duke Energy Corporation and South Carolina Electric and Gas Company

RT01-75-001, Entergy Services, Inc.

RT01-77-002, Southern Company Services, Inc.

E-45.

EC05-4-000, USGen New England, Inc.

E-46.

Omitted

E-47.

Omitted

E-48.

Omitted

E-49.

EL05-15-000, Arkansas Electric Cooperative Corporation v. Entergy Arkansas, Inc.

EL04-134-000, East Texas Electric Cooperative, Inc. v. Entergy Arkansas, Inc.

E-50.

Omitted

E-51.

EL05-19-000, Golden Spread Electric Cooperative, Inc., Lyntegar Electric Cooperative, Inc., Farmers' Electric Cooperative, Inc., Lea County Electric Cooperative, Inc., Central Valley Electric Cooperative, Inc., and Roosevelt County Electric Cooperative, Inc., v. Southwestern Public Service Company

E-52.

EL05-16-000, Aquila Merchant Services, Inc., v. Southwest Power Pool, Inc.

E-53.

EL92-33-009, Barton Village Inc., Village of Enosburg Falls Water and Light Department, Village of Orleans, and Village of Swanton Village, Vermont v. Citizens Utilities Company

E-54.

Omitted

E-55.

OA04-2-000, Morenci Water and Electric Company

E-56.

PL04-10-001, Federal Power Act Section 305(b) Obligations

E-57.

AC04-105-000, Access Energy Cooperative

AC04-91-000, Bridger Valley Electric Association, Inc.

AC04-102-000, Dixie Escalante Rural Electric Association, Inc.

AC04-72-000, Fall River Rural Electric Cooperative, Inc.

AC04-107-000, Flowell Electric Association, Inc.

AC04-85-000, Kandiyohi Power Cooperative

AC04-81-000, Lyon Rural Electric Cooperative

AC04-63-000, Midwest Energy, Inc.

AC04-104-000, Moon Lake Electric Association, Inc.

AC04-103-000, Mt. Wheeler Power, Inc.

AC04-88-000, NewCorp Resources Electric Cooperative, Inc.

AC04-93-000, North Central Missouri Electric Cooperative, Inc.

AC04-67-000, Oregon Trail Electric Consumers Cooperative, Inc.

AC04-79-000, Platte-Clay Electric Cooperative, Inc.

AC04-73-000, Salmon River Electric Cooperative, Inc.

AC04-83-000, Sussex Rural Electric Cooperative

AC04-71-000, Wells Rural Electric Company

AC04-75-000, White River Electric Association, Inc.

E-58.

ER03-811-000, Entergy Services, Inc.

E-59.

Omitted

E-60.

ER02-2560-002, Louisville Gas and Electric Company and Kentucky Utilities Company v. East Kentucky Power Cooperative, Inc.

E-61.

ER01-1639-004, Pacific Gas and Electric Company

E-62.

ER00-2019-012, California Independent System Operator Corporation;

ER00-2019-013, California Independent System Operator Corporation;

ER00-2019-006, Corporation Independent System Operator Corporation;

ER01-819-002, California Independent System Operator Corporation;

ER01-819-006, California Independent System Operator Corporation;

ER03-608-000,-California Independent System Operator Corporation;

ER03-608-004, California Independent System Operator Corporation

E-63.

ER04-779-000, Midwest Independent Transmission System Operator, Inc.;

ER04-779-001, Midwest Independent Transmission System Operator, Inc.

E-64.

ER03-1335-001, Commonwealth Edison Company and Commonwealth Edison Company of Indiana, Inc.;-E R03-1335-000, Commonwealth Edison Company and Commonwealth Edison Company of Indiana, Inc.;

ER94-367-000, PJM Interconnection, L.L.C., and Commonwealth Edison Company and Commonwealth Edison Company of Indiana, Inc.;

ER94-367-001, PJM Interconnection, L.L.C., and Commonwealth Edison Company and Commonwealth Edison Company of Indiana, Inc.;

ER94-367-003, PJM Interconnection, L.L.C., and Commonwealth Edison Company and Commonwealth Edison Company of Indiana, Inc.

E-65.

ER02-929-000, Ameren Services Company;

ER02-929-001, Ameren Services Company

E-66.

ER04-377-004, Pacific Gas and Electric Company;

ER04-743-002, Pacific Gas and Electric Company

E-67.

ER04-667-000, Southern California Edison Company

E-68.

ER04-738-003, Midwest Independent Transmission System Operator, Inc.

E-69.

Omitted

E-70.

Omitted

E-71.

Omitted

E-72.

Omitted

E-73.

EL00-95-106, San Diego Gas and Electric Company v. Sellers of Energy and Ancillary Services Into Markets Operated by the California Independent System Operator and the California Power Exchange Corporation;

EL00-98-092, Investigation of Practices of the California Independent System Operator Corporation and the California Power Exchange

E-74.

ER03-1101-002, PJM Interconnection L.L.C.;

ER03-1101-001, PJM Interconnection L.L.C.;

ER03-1101-003, PJM Interconnection L.L.C.;

ER03-1101-004, PJM Interconnection L.L.C.;

ER03-1101-005, PJM Interconnection L.L.C.;

ER03-1101-006, PJM Interconnection L.L.C.

E-75.

ER02-851-017, Southern Company Services, Inc.

E-76.

ER04-1072-001, PJM Interconnection, L.L.C. and American Electric Power Service Corporation;

EL04-138-001, PJM Interconnection, L.L.C. and American Electric Power Service Corporation;

ER04-718-006, PJM Interconnection L.L.C. and Commonwealth Edison Company

E-77.

Omitted

E-78.

ER03-171-003, Entergy Mississippi, Inc.;- ER03-171-002, Entergy Mississippi, Inc.;

ER03-171-004, Entergy Mississippi, Inc.

E-79.

Omitted.

E-80.

EL04-31-001, Quest Energy, L.L.C. v. Detroit Edison Company;

EL04-31-002, Quest Energy, L.L.C. v. Detroit Edison Company;

EL04-031-003, Quest Energy, L.L.C. v. Detroit Edison Company

E-81.

Omitted

E-82.

ER05-85-000, PJM Interconnection, L.L.C. and Duquesne Light Company;

ER05-85-001, PJM Interconnection, L.L.C. and Duquesne Light Company;

ER05-106-000, PJM Interconnection L.L.C.

E-83.

Docket # PA04-11-000, Arizona Public Service Company

E-84.

PA04-13-000, Tucson Electric Power Company

E-85.

ER05-34-000, Dominion Energy New England, Inc.

ER05-35-000, Dominion Energy Salem Harbor, LLC

ER05-36-000, Dominion Energy Brayton Point, LLC

ER05-37-000, Dominion Energy Manchester Street, Inc.

E-86.

Omitted

E-87.

Pocket #ER04-1106-000, NorthWestern Corporation dba NorthWestern Energy

ER04-1106-001, NorthWestern Corporation dba NorthWestern Energy

EL05-36-000, NorthWestern Corporation dba NorthWestern Energy

E-88.

EL03-180-000, Enron Power Marketing, Inc.

EL03-154-000, Enron Power Marketing, Inc.

EL02-115-008, Avista Corporation

E-89.

ER05-75-000, Midwest Independent Transmission System Operator, Inc.

E-90.

ER03-1091-005, Pacific Gas and Electric Company

E-91.

ER05-87-000, PJM Interconnection, L.L.C. and Virginia Electric and Power Company

E-92.

EC05-6-000, Boston Edison Company, TransCanada Energy Ltd., Ocean State Power and Ocean State Power II

E-93.

ER02-2330-029, New England Power Pool and ISO New England, Inc.

E-94.

ER05-127-000, Entergy Services, Inc.

Miscellaneous

M-1.

RM01-10-003, Standards of Conduct for Transmission Providers

M-2.

RM03-9-000, Supplemental Standards of Ethical Conduct

Markets, Tariffs, and Rates—Gas

G-1.

Omitted

G-2.

RP05-76-000, Gulf South Pipeline Company, LP

G-3.

Omitted

G-4.

RP04-251-000, El Paso Natural Gas Company

RP04-248-000, El Paso Natural Gas Company

G-5.

PR04-9-000, Bay Gas Storage Company, Ltd.

PR04-9-001, Bay Gas Storage Company, Ltd.

G-6.

RP00-476-006, Southern Natural Gas Company

G-7.

PR00-9-003, GulfTerra Texas Pipeline, L.P.

G-8.

RP00-336-024, El Paso Natural Gas Company

RP00-336-027 El Paso Natural Gas Company

RP04-61-002, El Paso Natural Gas Company

G-9.

RP04-6-002, Enbridge Pipelines (KPC)

G-10.

Omitted

G-11.

RP04-435-002, ANR Pipeline Company

RP04-435-001, ANR Pipeline Company

G-12.

PR04-13-001, GulfTerra Alabama Intrastate, LLC

G-13.

PR02-10-004, Enogex Inc.

G-14.

RM96-1-026, Standards for Business Practices of Interstate Natural Gas Pipelines

G-15.

RP04-254-000, City of Hamilton, Ohio v. Texas Eastern Transmission, L.P.

G-16.

RP03-564-002, Dominion Cove Point LNG, LP

G-17.

RP04-386-000, Northwest Pipeline Corporation

G-18.

RP04-12-000, Florida Gas Transmission Company

RP04-12-004, Florida Gas Transmission Company

RP04-12-005, Florida Gas Transmission Company

RP00-387-004, Florida Gas Transmission Company

G-19.

Omitted

G-20.

Omitted

G-21.

RP04-110-002, El Paso Natural Gas Company

RP04-110-001, El Paso Natural Gas Company

RP00-336-014, El Paso Natural Gas Company

RP00-336-018, El Paso Natural Gas Company

RP00-336-019, El Paso Natural Gas Company

RP00-336-020, El Paso Natural Gas Company

RP00-336-025, El Paso Natural Gas Company

RP04-251-000, El Paso Natural Gas Company

G-22.

RP04-249-002, AES Ocean Express LLC v. Florida Gas Transmission Company

G-23.

RP98-52-055, Southern Star Central Gas Pipeline Inc.

G-24.

Omitted

G-25.

RP03-281-004, Columbia Gas Transmission Corporation

Energy Projects—Hydro

H-1.

P-2543-063, Clark Fork and Blackfoot, LLC

H-2.

P-309-042, Reliant Energy Mid-Atlantic Power Holdings, LLC

H-3.

P-2835-012, New York State Electric and Gas Corporation

H-4.

P-2016-092, City of Tacoma, Washington

P-2016-073, City of Tacoma, Washington

H-5.

P-516-399, South Carolina Electric and Gas Company

H-6.

P-2100-130, Baiocchi Family v. California Department of Water Resources

P-2426-190, Baiocchi Family v. California Department of Water Resources

H-7.

P-1971-094, Idaho Power Company

H-8.

P-6132-010, John C. Jones

H-9.

P-516-390, South Carolina Electric and Gas Company

H-10.

P-2188-097, PPL Montana, LLC

Energy Projects—Certificates

C-1.

CP04-343-000, Paiute Pipeline Company

CP04-343-001, Paiute Pipeline Company

CP04-343-002, Paiute Pipeline Company

C-2.

CP04-47-000, Sabine Pass LNG, L.P.

CP04-38-000, Cheniere Sabine Pass Pipeline Company

CP04-38-001, Cheniere Sabine Pass Pipeline Company

CP04-39-000, Cheniere Sabine Pass Pipeline Company

CP04-40-000, Cheniere Sabine Pass Pipeline Company

C-3.

CP04-345-001, Cheyenne Plains Gas Pipeline Company, L.L.C.

CP03-302-000, Cheyenne Plains Gas Pipeline Company, L.L.C.

CP03-302-001, Cheyenne Plains Gas Pipeline Company, L.L.C.

Magalie R. Salas,
Secretary.

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

[FR Doc. 04-27399 Filed 12-09-04; 5:07 pm]

BILLING CODE 6717-01-M